SMALL BUSINESS ADMINISTRATION

[Disaster Declaration # 10862 and # 10863]

Texas Disaster Number TX-00251

AGENCY: U.S. Small Business Administration.

ACTION: Amendment 1.

SUMMARY: This is an amendment of the Presidential declaration of a major disaster for the State of Texas (FEMA-1697-DR), dated 5/1/2007.

Incident: Severe Storms and Tornadoes.

Incident Period: 4/21/2007 through 4/24/2007.

DATES: Effective Date: 5/7/2007.

Physical Loan Application Deadline Date: 7/2/2007.

EIDL Loan Application Deadline Date: 2/1/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Texas, dated 5/1/2007 is hereby amended to include the following areas as adversely affected by the disaster:

Primary Counties:

Denton.

Contiguous Counties:

Texas: Collin, Cooke, Dallas, Grayson, Tarrant, Wise

All other information in the original declaration remains unchanged.

(Catalog of Federal Domestic Assistance Numbers 59002 and 59008)

Herbert L. Mitchell,
Associate Administrator for Disaster Assistance.

[FR Doc. E7-9186 Filed 5-11-07; 8:45 am]

BILLING CODE 8025-01-P